FEDERAL COMMUNICATIONS COMMISSION

Open Commission Meeting, Tuesday, October 24, 2017

October 17, 2017.

The Federal Communications Commission will hold an Open Meeting on the subjects listed below on Tuesday, October 24, 2017 which is scheduled to commence at 10:30 a.m. in Room TW-C305, at 445 12th Street SW., Washington, DC.

Item No. | Bureau | Subject
1 | Consumer & Governmental Affairs | Title: Rules and Policies Regarding Calling Number Identification Service—Caller ID (CC Docket No. 91-281)
|  | Summary: The Commission will consider a Report and Order that would enable law enforcement and security personnel to obtain quick access to blocked Caller ID information needed to investigate threatening calls. It also would amend the Commission's rules to allow non-public emergency services, such as private ambulance companies, to obtain blocked Caller ID information associated with calls requesting assistance.
2 | Wireline Competition | Title: Nationwide Number Portability (WC Docket No. 17-244); Numbering Policies for Modern Communications (WC Docket No. 13-97)
|  | Summary: The Commission will consider a Notice of Proposed Rulemaking and Notice of Inquiry that proposes to amend the Commission's rules as well as seeks comment on industry models to move toward complete nationwide number portability to promote competition between all service providers and increase network routing efficiencies.
3 | Wireline Tele-Communications and Office of Engineering & Technology | Title: Promoting Investment in the 3550-3700 MHz Band (GN Docket No. 17-258) Summary: The Commission will consider a Notice of Proposed Rulemaking that would seek comment and propose changes to the Priority Access License rules in the 3550-3700 MHz (3.5 GHz) band to increase incentives for investment, encourage more efficient spectrum use, and promote faster and more widespread network deployments.
4 | Consumer & Governmental Affairs | Title: Access to Telecommunications Equipment and Services by Persons with Disabilities (CG Docket No. 13-46); Amendment of the Commission's Rules Governing Hearing Aid-Compatible Mobile Handsets (WT Docket No. 07-250); Comment Sought on 2010 Review of Hearing Aid Compatibility Regulations (WT Docket No. 10-254)
|  | Summary: The Commission will consider a Report and Order and Order on Reconsideration on hearing aid compatibility (HAC) that would update the volume control standard for wireline telephones, extend wireline HAC requirements to cover telephones used with advanced communications services, adopt a volume control rule for wireless handsets, and delete from the Commission's rules an obsolete wireless HAC standard.
5 | International | Title: Section 43.62 Reporting Requirements for U.S. Providers of International Services (IB Docket No. 17-55); 2016 Biennial Review of Telecommunications Regulations (IB Docket No. 16-131)
|  | Summary: The Commission will consider a Report and Order that would: (1) Eliminate the Traffic and Revenue Reports and (2) streamline the Circuit Capacity Reports.
6 | Media | Title: Elimination of Main Studio Rule (MB Docket No. 17-106)
|  | Summary: The Commission will consider a Report and Order eliminating the rule that requires each AM, FM, and television broadcast station to maintain a main studio located in or near its community of license.
7 | Media | Title: Amendment of Section 73.624(g) of the Commission's Rules Regarding Submission of FCC Form 2100, Schedule G, Used to Report TV Stations' Ancillary or Supplementary Services, Amendment of Section 73.3580 of the Commission's Rules Regarding Public Notice of the Filing of Broadcast Applications (MB Docket No. 17-264); Modernization of Media Regulation Initiative (MB Docket No. 17-105); Revision of the Public Notice Requirements of Section 73.3580 (MB Docket 05-6)
|  | Summary: The Commission will consider a Notice of Proposed Rulemaking that seeks comment on updates to Section 73.624(g) of its rules, which imposes certain reporting obligations for broadcasters relating to the provision of ancillary or supplementary services, and Section 73.3580, which requires public notice of the filing of broadcast applications, including through newspapers.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-23628 Filed 10-30-17; 8:45 am]

BILLING CODE 6712-01-P